DEPARTMENT OF ENERGY

Federal Energy Regulatory Commission

Notice Announcing Preliminary Permit Drawing

Mississippi 8 Hydro, LLC | Project No. 13010-002.
FFP Project 98, LLC | Project No. 14272-000.

The Commission has received two preliminary permit applications deemed filed on September 1, 2011, at 8:30 a.m.,¹ for proposed projects to be located at the U.S. Army Corps of Engineers' Mississippi River Lock and Dam No. 8 on the Mississippi River, in Houston County, Minnesota, and Vernon County, Wisconsin. The applications were filed by Mississippi 8 Hydro, LLC for Project No. 13010 and FFP Project 98, LLC for Project No. 14272.

¹ Under the Commission's Rules of Practice and Procedure, any document received after regular business hours is considered filed at 8:30 a.m. on the next regular business day. 18 CFR 385.2001(a)(2)(2011).

On April 23, 2012, at 1 p.m. (Eastern Time), the Secretary of the Commission, or her designee, will conduct a random drawing to determine the filing priority of the applicants identified in this notice. The Commission will select among competing permit applications as provided in section 4.37 of its regulations.² The priority established by this drawing will be used to determine which applicant, among those with identical filing times, will be considered to have the first-filed application.

² 18 CFR 4.37 (2011).

The drawing is open to the public and will be held in room 2C, the Commission Meeting Room, located at 888 First Street NE., Washington, DC 20426. The Secretary will issue a subsequent notice announcing the results of the drawing.

Dated: April 16, 2012.
Kimberly D. Bose,
Secretary.

[FR Doc. 2012-9661 Filed 4-20-12; 8:45 am]

BILLING CODE 6717-01-P